DEPARTMENT OF TRANSPORTATION

National Highway Traffic Safety Administration

49 CFR Part 571

[Docket No. NHTSA-2009-0108]

Final Vehicle Safety Rulemaking and Research Priority Plan 2009-2011

AGENCY: National Highway Traffic Safety Administration (NHTSA), Department of Transportation (DOT).

ACTION: Plan availability.

SUMMARY: This document announces the availability of the Final Vehicle Safety Rulemaking and Research Priority Plan 2009-2011 (Priority Plan) in Docket No. NHTSA-2009-0108. The draft Priority Plan was announced in a Request for Comment published in the Federal Register on July 1, 2009. This document also summarizes the public comments received in response to that Request for Comments, and announces NHTSA's intent to incorporate those comments in the process of developing a longer-term motor vehicle safety strategic plan that would encompass the period 2010 to 2020, and will be announced in a separate Federal Register notice.

FOR FURTHER INFORMATION CONTACT: Dr. Joseph Carra, Director of Strategic Planning and Integration, National Highway Traffic Safety Administration, Room W48-318, 1200 New Jersey Avenue, SE., Washington, DC 20590. Telephone: 202-366-0361. E-mail: joseph.carra@dot.gov

SUPPLEMENTARY INFORMATION: On July 1, 2009, NHTSA published a Request for Comments (RFC) in the Federal Register (74 FR 31387) seeking public comment on the NHTSA Vehicle Safety Rulemaking and Research Priority Plan 2009-2011 (Priority Plan).

NHTSA received 29 comments on the July 2009 RFC, from vehicle manufacturers (Ford; Fuji Heavy Industries USA (Subaru)), parts suppliers (Delphi; Bendix), industry organizations and associations (Alliance of Automobile Manufacturers (Alliance); American Trucking Association (ATA); Heavy Duty Brake Manufacturers Association), automobile safety advocates (Advocates for Highway and Auto Safety (Advocates); Safe Kids USA; SafetyBeltSafe USA; Automotive Occupant Restraints Council (AORC), and concerned organizations and individuals (The Center for Injury Research and Prevention at the Children's Hospital of Philadelphia (CHOP); Safe Ride News; John Walsh; William M. Gorman; Karen Ahmed). All of the comments on the NHTSA Vehicle Safety Rulemaking and Research Priority Plan 2009-2011 can be reviewed in http://www.regulations.gov (see Docket No. NHTSA-2009-0108).

Most commenters expressed general support of the Priority Plan, with several commenters commending NHTSA for publishing the RFC and allowing public comment. Two commenters noted that periodic publication of the Priority Plan, along with status updates, is good public policy and that it would help them align their own research plans. Commenters generally agreed with the priority areas NHTSA identified in the plan. Several of them suggested some additional projects that the Agency should consider within the areas of child safety, crash avoidance and crash mitigation technologies, drowsy, distracted and impaired drivers, and heavy truck stability control.

Several commenters suggested that it would be helpful if the plan more clearly explained how short-term priorities fit into NHTSA's overall mission to reduce fatalities and injuries in automobile crashes, and requested opportunities to meet to further discuss research plans and intermediate milestones. One commenter applauded the plan for being aggressive on behalf of highway safety. One commenter felt that the Priority Plan had serious deficiencies in that, in their view, it did not adequately address very specific areas including motorcoaches and related NTSB recommendations, crash compatibility regulatory action, older occupant protection, ejection mitigation regulatory action, glazing performance standards, consumer tire ratings beyond consumer information, remanufactured heavy vehicle truck tires, and motorcycle initiatives. That commenter suggested that these perceived deficiencies be corrected in the long-term plan. One commenter expressed concern that the Agency may not be adequately funded to achieve the goals delineated in the Priority Plan. Finally, several commenters discussed ways to improve crash datasets and to leverage existing SAE standards.

NHTSA appreciates the public response to the July 2009 RFC regarding the short-term Priority Plan, and looks forward to continuing to engage stakeholders in the planning and formulation of priority research and rulemaking activities in order to further its mission of reducing fatalities and injuries in crashes on the nation's roadways. In considering the breadth and strategic nature of the comments received, the Agency has determined that communication of how the Priority Plan fits within the over-arching framework of its program goals is best accomplished by publication of an already-in-process integrated 10 Year Vehicle Safety Strategic Plan (Strategic Plan) that covers both the short-term and long-term priorities of the Agency. Such a Strategic Plan will allow the Agency to communicate its programs and priorities in a longer range strategic context and will serve the interests of the public in understanding and responding to the Agency's goals. Therefore, NHTSA will be considering the comments received in response to the July 2009 RFC in deliberations for developing a Strategic Plan that will cover the time period 2010 through 2020.

For purposes of apprising the public on the status of progress relative to the efforts delineated in the short-term Priority Plan, NHTSA is publishing to the docket referenced above, in conjunction with this Notice, a final version of the Priority Plan which includes updates since it was published in July 2009. Specifically, this final version of the Priority Plan includes updates in the areas of background data analysis, motorcycle braking, New Car Assessment Program Vehicle-Child Restraint System (CRS) fit program, ejection mitigation, power windows, brake transmission shift interlock, child restraints in side impacts, rear visibility of vehicles, fuel economy, consumer tire rating program, motorcycle helmet labeling, compatibility, pedestrian safety, and heavy truck stopping distance. Added to the final plan is a project to finalize a driver distraction plan under the high-priority section “Light-Vehicle Crash Avoidance and Mitigation—Advanced Technologies.”

Interested persons may obtain a copy of the plan, “Final Vehicle Safety Rulemaking and Research Priority Plan 2009-2011,” by downloading a copy of the document. To download a copy of the document, go to http://www.regulations.gov and follow the online instructions, or visit Docket Management Facility at the street address listed above under ADDRESSES and reference Docket No. NHTSA-2009-0108.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.dot.gov/privacy.html.

Docket: For access to the docket to read background documents or comments received, go to http://www.regulations.gov and follow the online instructions, or visit Docket Management Facility at the street address listed above.

Authority: 49 U.S.C. 30111, 30117, 30168; delegation of authority at 49 CFR 1.50 and 501.8.

Issued on: November 4, 2009.
Ronald L. Medford,
Senior Associate Administrator for Vehicle Safety.

[FR Doc. E9-26932 Filed 11-6-09; 8:45 am]

BILLING CODE 4910-59-P